ENVIRONMENTAL PROTECTION AGENCY

40 CFR Part 63

[EPA-HQ-OAR-2002-0049; FRL-8150-04-OAR]

RIN 2060-AU96

Standards of Performance for Steel Plants: Electric Arc Furnaces Constructed After 10/21/74 & On or Before 8/17/83; Standards of Performance for Steel Plants: Electric Arc Furnaces & Argon-Oxygen Decarburization Constructed After8/17/83; Extension of Comment Period; Correction

AGENCY: Environmental Protection Agency (EPA).

ACTION: Proposed rule; correction.

SUMMARY: The U.S. Environmental Protection Agency (EPA) published a document in the Federal Register of July 13, 2022, extending the comment period for the Standards of Performance for Steel Plants: Electric Arc Furnaces Constructed After 10/21/74 & On or Before 8/17/83; Standards of Performance for Steel Plants: Electric Arc Furnaces & Argon-Oxygen Decarburization Constructed After 8/17/83 proposed rule; amendments action. The document contained incorrect dates.

DATES: The public comment period for the proposed rule published in the Federal Register on May 16, 2022 (87 FR 29710), originally ending July 15, 2022, is being extended by 31 days. Written comments must be received on or before August 15, 2022.

FOR FURTHER INFORMATION CONTACT: For questions about this action, contact Donna Lee Jones, Metals and Inorganic Chemicals Group, Sector Policies and Programs Division (D243-02), Environmental Protection Agency, Research Triangle Park, North Carolina 27711; telephone number: (919) 541-5251 fax number: (919) 541-3207 email address: Jones.DonnaLee@epa.gov.

SUPPLEMENTARY INFORMATION:

Correction

In the Federal Register of July 13, 2022, in FR Doc. 2022-14897, on page 41639, the following corrections are made:

1. On page 41639, in the second column, correct the SUMMARY to read: SUMMARY: On May 16, 2022, the U.S. Environmental Protection Agency (EPA) proposed a rule titled “Standards of Performance for Steel Plants: Electric Arc Furnaces Constructed After 10/21/74 & On or Before 8/17/83; Standards of Performance for Steel Plants: Electric Arc Furnaces & Argon-Oxygen Decarburization Constructed After 8/17/83.” The EPA is extending the comment period on this proposed rule that currently closes on July 15, 2022, by 31 days. The comment period will now remain open until August 15, 2022, to allow additional time for stakeholders to review and comment on the proposal.

2. On page 41639, in the second column, correct the DATES caption to read: DATES: The public comment period for the proposed rule published in the Federal Register on May 16, 2022 (87 FR 29710), originally ending July 15, 2022, is being extended by 31 days. Written comments must be received on or before August 15, 2022.

3. On page 41639, in the third column, in the SUPPLEMENTARY INFORMATION caption, correct the “Rationale” to read: SUPPLEMENTARY INFORMATION:

Rationale. Based on consideration of requests received from environmental organizations (GASP (AL), GASP (PA), Fairfield Environmental Justice Alliance, and California Communities Against Toxics) and industry (Steel Manufacturers Association, American Iron and Steel Institute, and Specialty Steel Industry of North America), the EPA is extending the public comment period for an additional 31 days. Therefore, the public comment period will end on August 15, 2022.

Penny Lassiter,
Director, Sector Policies and Programs Division.

[FR Doc. 2022-17365 Filed 8-11-22; 8:45 am]

BILLING CODE 6560-50-P